DEPARTMENT OF COMMERCE

Foreign-Trade Zones Board

Change of Address; Submission of Comments

The office of the Foreign-Trade Zones (FTZ) Board staff is moving from the Franklin Court Building to the Herbert Clark Hoover Building (Main Commerce Building). Submissions to the FTZ Board should hereafter be directed to the address below:

Foreign-Trade-Zones Board,

U.S. Department of Commerce,

1401 Constitution Ave. NW.,

Room 1115,

Washington, DC 20230.

Dated: May 1, 2005.
Dennis Puccinelli,
Executive Secretary.

[FR Doc. E6-7055 Filed 5-8-06; 8:45 am]

BILLING CODE 3510-DS-S